FEDERAL DEPOSIT INSURANCE CORPORATION

[OMB No. 3064-0006; -0114; -0197]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0006; -0114 and -0197).

DATES: Comments must be submitted on or before June 3, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Interagency Biographical and Financial Report.

OMB Number: 3064-0006.

Forms: 6200/06.

Affected Public: Individuals or households; business or other for profit; Insured state nonmember banks and state savings associations.

Burden Estimate:

Summary of Estimated Annual Burden
[OMB No. 3064-0006]
Information collection (obligation to respond) | Type of burden (frequency of response) | Number of respondents | Number of responses per respondent | Time per response (HH:MM) | Annual burden (hours)
1. Form 6200/06—Interagency Biographical and Financial Report, 12 U.S.C. 1815(a), 1817(j), and 1831i (Mandatory) | Reporting (On Occasion) | 136 | 2.86 | 04:30 | 1,751
Total Annual Burden (Hours): |  |  |  |  | 1,751
Source: FDIC.

General Description of Collection: The Interagency Bank Merger Act Application form is used by the FDIC, the Board of Governors of the Federal Reserve System, and the Office of the Comptroller of the Currency for applications under section 18(c) of the Federal Deposit Insurance Act (FDIA), as amended (12 U.S.C. 1828(c)). The application is used for a merger, consolidation, or other combining transaction between nonaffiliated parties as well as to effect a corporate reorganization between affiliated parties (affiliate transaction). An affiliate transaction refers to a merger transaction or other business combination (including a purchase and assumption) between institutions that are commonly controlled (for example, between a depository institution and an affiliated interim institution). There are different levels of burden for nonaffiliate and affiliate transactions. Applicants proposing affiliate transactions are required to provide less information than applicants involved in the merger of two unaffiliated entities. If depository institutions are not controlled by the same holding company, the merger transaction is considered a non-affiliate transaction. There is no change in the methodology or substance of this information collection. The reduction in estimated annual burden (from 2,313 hours in 2021 to 1,751 hours currently) is due to the decline in the historical number of Reports received by the FDIC, which is the basis for the estimated number of annual responses.

2. Title: Foreign Banks.

OMB Number: 3064-0114.

Affected Public: Insured branches of foreign banks.

Burden Estimate:

Summary of Estimated Annual Burden
[OMB No. 3064-1114]
Information collection (obligation to respond) | Type of burden (frequency of response) | Number of respondents | Number of responses per respondent | Time per response (HH:MM) | Annual burden (hours)
1. Approval to Conduct Activities, 12 CFR 303.187 (Mandatory) | Reporting (Annual) | 1 | 1 | 08:00 | 8
2. Consent to Operate, 12 CFR 303.186 (Mandatory) | Reporting (Annual) | 1 | 1 | 08:00 | 8
3. Moving a Branch, 12 CFR 303.184 (Mandatory) | Reporting (Annual) | 1 | 1 | 08:00 | 8
4. Pledge of Assets Documents, 12 CFR 347.209(e)(4) (Mandatory) | Disclosure (Quarterly) | 10 | 4 | 00:15 | 10
5. Pledge of Assets Reports, 12 CFR 347.209(e)(6) (Mandatory) | Reporting (Quarterly) | 10 | 4 | 2:00 | 80
6. Recordkeeping, 12 CFR 347.205 (Mandatory) | Recordkeeping (Annual) | 10 | 1 | 120:00 | 1,200
Total Annual Burden (Hours) |  |  |  |  | 1,314
Source: FDIC.

General Description of Collection: Applications to move an insured state licensed branch of a foreign bank; applications to operate as such noninsured state-licensed branch of a foreign bank; applications from an insured state-licensed branch of a foreign bank to conduct activities that are not permissible for a federally licensed branch; internal recordkeeping by such branches; and reporting and recordkeeping requirements relating to such a branch's pledge of assets to the FDIC. There is no change in the methodology or substance of this information collection. The estimated burden remains unchanged from 2021.

3. Title: Liquidity Coverage Ratio: Liquidity Risk Measurement, Standards, and Monitoring (LCR).

OMB Number: 3064-0197.

Affected Public: State savings associations and State nonmember banks.

Burden Estimate:

Summary of Estimated Annual Burden
[OMB No. 3064-0197]
Information collection (obligation to respond) | Type of burden (frequency of response) | Number of respondents | Number of responses per respondent | Time per response (HH:MM) | Annual burden (hours)
1. 329.40(a) Notification that liquidity coverage ratio is less than minimum in 329.10; 329.110(a) NSFR shortfall notification. (Mandatory) | Reporting (On Occasion) | 1 | 1 | 00:30 | 1
2. 329.40(b) and 329.110(b). LCR and NSFR Shortfall Reporting Requirements. (Mandatory) | Reporting (On Occasion) | 1 | 1 | 44:30 | 45
3.329.40(b)(3)(iv) and 329.110(b)(3) Report of progress toward achieving compliance. (Mandatory) | Reporting (On Occasion) | 1 | 1 | 00:30 | 1
4. 329.22(a) and 329.109(b) Policies and Procedures. (Mandatory) | Recordkeeping (Annual) | 3 | 1 | 25:00 | 75
5. 329.4(a) Qualified Master Netting Agreements. (Mandatory) | Recordkeeping (Annual) | 3 | 1 | 00:30 | 2
Total Annual Burden (Hours) |  |  |  |  | 124
Source: FDIC.

General Description of Collection: The LCR rule implements a quantitative liquidity requirement and contains requirements subject to the PRA. The requirement is designed to promote the short-term resilience of the liquidity risk profile of large and internationally active banking organizations, thereby improving the banking sector's ability to absorb shocks arising from financial and economic stress, and to further improve the measurement and management of liquidity risk. The LCR rule establishes a quantitative minimum liquidity coverage ratio that requires a company subject to the rule to maintain an amount of high-quality liquid assets (the numerator of the ratio) that is no less than 100 percent of its total net cash outflows over a prospective 30 calendar day period (the denominator of the ratio). There is no change in the methodology or substance of this information collection. This reduction in estimated annual burden (from 994 hours in 2021 to 124 hours currently) is due the reduction in both the estimated number of annual respondents and the estimated time per response.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, March 27, 2024.
James P. Sheesley,
Assistant Executive Secretary.

[FR Doc. 2024-06881 Filed 4-1-24; 8:45 am]

BILLING CODE 6714-01-P